DEPARTMENT OF THE INTERIOR

Bureau of Land Management

[LLWO300000.L14300000.xx0000]

Notice of Amended Proposed Withdrawal; Partial Termination of Segregative Effect; Arizona, California, Colorado, Nevada, New Mexico, and Utah

AGENCY: Bureau of Land Management, Interior.

ACTION: Notice.

SUMMARY: The Assistant Secretary of the Interior for Policy, Management and Budget has approved an amendment to a previously filed application to withdraw public lands in Arizona, California, Colorado, Nevada, New Mexico, and Utah from settlement, sale, location, and entry under the public land laws, including the United States mining laws, on behalf of the Bureau of Land Management (BLM), to protect and preserve Solar Energy Zones (SEZ) for future solar energy development. This Notice amends the prior proposal notice of which was published in the Federal Register on April 21, 2011 (76 FR 22414), to increase the proposed withdrawal term from 5 to 20 years, decrease the acreage proposed for withdrawal, and provide revised legal descriptions for the 17 remaining SEZs presented in the Final Programmatic Environmental Impact Statement for Solar Energy Development in Six Southwestern States (Programmatic EIS). This Notice also terminates the segregative effect as to lands no longer included in the application. The purpose of the proposed withdrawal has also changed so that the lands would now be protected for future solar energy development.

DATES: Comments must be received by March 18, 2013.

ADDRESSES: Written comments should be sent to the BLM Director, 1849 C Street NW. (WO-350), Washington, DC 20240.

FOR FURTHER INFORMATION CONTACT: Ray Brady, BLM, by telephone at 202-912-7312, or by email at rbrady@blm.gov; or one of the BLM state offices listed below.

SUPPLEMENTARY INFORMATION: The applicant is the BLM at the address above, and its amended application requests the Assistant Secretary of the Interior for Policy, Management and Budget to withdraw, subject to valid existing rights, approximately 303,900 acres of public lands located in the States of Arizona, California, Colorado, Nevada, New Mexico, and Utah from settlement, sale, location, and entry under the public land laws, including the United States mining laws, but not the mineral leasing, geothermal leasing, or the mineral material laws. Copies of maps depicting the revised land descriptions are available at the Programmatic EIS Web site (http://solareis.anl.gov) and are also available from the BLM offices listed below:

Arizona State Office, One North Central Avenue, Suite 800, Phoenix, Arizona 85004; California State Office, 2800 Cottage Way, Suite W-1623, Sacramento, California 95825; Colorado State Office, 2850 Youngfield Street, Lakewood, Colorado 80215; Nevada State Office, 1340 Financial Boulevard, Reno, Nevada 89502; New Mexico State Office, 301 Dinosaur Trail, Santa Fe, New Mexico 87508; Utah State Office, 440 West 200 South, Suite 500, Salt Lake City, Utah 84101.

The proposed SEZs depicted on the maps are described as follows:

ARIZONA—AZ 035131

Gila and Salt River Meridian

Brenda SEZ

T. 5 N., R. 15 W.,

Sec. 31, lots 1 to 4, inclusive, E½NW¼, and E½SW¼.

T. 4 N., R. 16 W.,

Sec. 1, lots 3 and 4, S½NW¼, and SW¼;

Secs. 2, 3, and 4;

Sec. 9, NE¼, NE¼NW¼, and NE¼SE¼;

Sec. 10, N½, N½S½, and SW¼SW¼;

Sec. 11, NW¼.

The areas described aggregate approximately 3,343 acres.

Gillespie SEZ

T. 2 S., R. 6 W.,

Sec. 6, SW¼, W½SE¼, and SE¼SE¼, unsurveyed;

Sec. 7, N½, NE¼SW¼, N½SE¼, and SE¼SE¼, unsurveyed;

Sec. 8, SE¼NW¼, W½NW¼, SW¼, S½SE¼, and NW¼SE¼, unsurveyed;

Sec. 9, SW¼SW¼, unsurveyed;

Sec. 15, NW¼SW¼, N½SW¼SW¼, SE¼SW¼, and S½SW¼SE¼, unsurveyed;

Sec. 16, S½NE¼, S½NW¼NE¼, NW¼, and N½NE¼SE¼, unsurveyed;

Sec. 17, N½NE¼, N½SE¼NE¼, NE¼NW¼, and N½NW¼NW¼, unsurveyed;

Sec. 22, S½NE¼NE¼, NW¼NE¼, N½SW¼NE¼, SE¼NE¼, and N½NE¼NW¼, unsurveyed;

Sec. 23, SW¼NW¼, N½SW¼, SE¼SW¼, S½NE¼SE¼, NW¼SE¼, and S½SE¼, unsurveyed;

Sec. 24, S½NW¼SW¼ and S½SW¼, unsurveyed.

T. 2 S., R. 7 W.,

Sec. 1, SE¼SW¼, NE¼SE¼, and S½SE¼;

Sec. 12, N½NE¼, SE¼NE¼, and NE¼NW¼.

The areas described aggregate approximately 2,607 acres.

CALIFORNIA—CA 050951

San Bernardino Meridian

Riverside East SEZ

T. 4 S., R. 15 E.,

Sec. 25, NE¼NE¼, W½NE¼, W½, W½SE¼, and SE¼SE¼, excluding fee easement CARI 07041;

Sec. 26, N½, S½SW¼SW¼, SW¼SE¼SW¼, NE¼SE¼, NE¼NW¼SE¼, and NE¼SE¼SE¼, excluding fee easements CALA 053581 and CARI 07041;

Sec. 27, N½NE¼, N½SE¼ NE¼, N½NE¼NW¼, SE¼NE¼SW¼, E½SE¼SW¼, S½SE¼, and S½NW¼SE¼, excluding the Chuckwalla Desert Wildlife Management Area (DWMA) and fee easements CALA 053581 and CARI 07041;

Sec. 34, E½ and E½E½W½, excluding the Chuckwalla DWMA;

Sec. 35, lot 2, SW¼NE¼NE¼, S½NW¼NE¼, S½NE¼, SE¼SE¼NE¼, W½, N½SE¼, and SW¼SE¼, excluding fee easements CALA 053581, CARI 07041, and CALA 057221.

T. 5 S., R. 15 E.,

Sec. 3, lot 1 in the NE¼, E½ lot 2 in the NE¼, and E½SE¼, excluding the Chuckwalla DWMA;

Sec. 10, E½NE¼ and NE¼SE¼, excluding the Chuckwalla DWMA;

Sec. 13, S½;

Sec. 14, S½;

Sec. 15, E½SE¼, excluding the Chuckwalla DWMA;

Sec. 22, E½NE¼, N½S½, SW¼SW¼, N½SE¼SW¼, and SW¼SE¼SW¼, excluding the Chuckwalla DWMA;

Sec. 23, N½ and SE¼;

Sec. 24, N½, SW¼, NE¼SE¼, and S½SE¼;

Sec. 25, those portions of N½N½ and NW¼SW¼NW¼, northerly of right-of-way boundary CACA 18888;

Sec. 27, NW¼NW¼, northerly of the northern ROW boundary CARI 07303, excluding the Chuckwalla DWMA;

T. 4 S., R. 16 E.,

Sec. 31, S½ of lot 3 in the SW¼, excluding fee easement CALA 053581;

T. 5 S., R 16 E.,

Secs. 1 and 2;

Sec. 3, lot 1 in the NE¼, lot 2 in the NE¼, lot 1 in the NW¼, lot 2 in the NW¼, and SE¼, excluding fee easement CALA 053581;

Sec. 4, lot 1 in the NE¼ and lot 2 in the NE¼, excluding fee easement CALA 053581;

Sec. 6, lot 1 in the NE¼, lot 2 in the NE¼, lot 1 in the NW¼, and lot 2 in the NW¼, excluding fee easement CALA 053581;

Sec. 8, S½NW¼SW¼ and SW¼SW¼;

Secs. 10, 11, and 13, excluding fee easement CALA 053581;

Sec. 14, E½;

Sec. 15, S½;

Sec. 17, S½NE¼, NW¼NW¼, and S½NW¼;

Sec. 18, lot 1 in the SW¼, lot 2 in the SW¼, and SE¼;

Secs. 19 and 20;

Sec. 21, N½;

Sec. 22;

Sec. 23, NE¼, N½NW¼, SE¼NW¼, and S½;

Sec. 24;

Sec. 25, W½;

Sec. 26;

Sec. 27, northerly of the northern right-of-way boundary CARI 05498;

Sec. 28, N½N½N½;

Sec. 29, N½N½N½;

Sec. 30, lot 1 in the NW¼, N½ of lot 2 in the NW¼, and N½NE¼;

Sec. 34, those portions of N½N½NE¼, and NE¼NE¼NW¼, lying northerly of the northern right-of-way boundary CARI 05498;

Sec. 35, N½N½N½.

T. 5 S., R. 17 E.,

Secs. 1 and 2, excluding the Palen McCoy Wilderness Area CACA 35105;

Sec. 3, excluding fee easement CALA 053588;

Sec. 5, lot 1 in the NW¼, lot 2 in the NW¼, and SW¼;

Sec. 6;

Sec. 7, excluding fee easement CALA 053581;

Sec. 8, W½ and SE¼;

Sec. 9, SW¼, W½SE¼, SW¼NE¼SE¼, W½SE¼SE¼, and SE¼SE¼SE¼;

Sec. 10, E½E½E½, excluding fee easement CALA 053581;

Sec. 11, excluding the Palen McCoy Wilderness Area CACA 35105;

Sec. 14, excluding the Palen McCoy Wilderness Area CACA 35105, and excluding fee easement CALA 053588;

Sec. 15, NE¼NE¼NE¼, SW¼NW¼SW¼, W½SW¼SW¼, SE¼SW¼SW¼, and S½SE¼SW¼, excluding fee easement CALA 053588;

Secs. 17 and 18, excluding fee easement CALA 053581;

Sec. 19, lot 1 in the NW¼, lot 2 in the NW¼, lot 1 in the SW¼, lot 2 in the SW¼, and NE¼;

Sec. 20, W½NW¼, SE¼NW¼, and S½;

Sec. 21;

Sec. 22, excluding fee easement CALA 053588;

Sec. 23, excluding the Palen McCoy Wilderness Area CACA 35105, and fee easement CALA 053588;

Sec. 26, SW¼NW¼ and SW¼;

Sec. 27, N½, N½SW¼, SE¼SW¼, and SE¼;

Sec. 28;

Sec. 29, NE¼ and S½;

Secs. 31 to 34, inclusive;

Sec. 35, N½NW¼ and SW¼NW¼.

T. 6 S., R. 17 E.,

Sec. 1, lot 1 in the NW¼, lot 2 in the NW¼, and S½;

Sec. 2;

Sec. 3, E½ lot 1 in the NE¼, lot 2 in the NE¼, W½ lot 1 in the NW¼, lot 2 in the NW¼, W½SW¼, and E½SE¼;

Sec. 4, that portion lying north of the northern right-of-way of CARI 05498;

Sec. 5, lot 2 in the NE¼ and lot 2 in the NW¼;

Sec. 6 and secs. 9 to 12, inclusive, those portions north of the northerly right-of-way of CARI 05498;

T. 6 S., R. 18 E.,

Secs. 1 to 4, inclusive, excluding the Palen McCoy Wilderness area CACA 35105;

Sec. 7, lot 1 in the SW¼, lot 2 in the SW¼, and SE¼;

Sec. 9;

Sec. 10, N½, NE¼SW¼, and N½SE¼;

Secs. 11, 12, and 13;

Sec. 14, N½, N½SW¼, and SE¼;

Secs. 17 and 18, those portions lying north of the northerly right-of-way line of CARI 05498;

Sec. 23, N½NE¼, NE¼NW¼, and that portion of the N½SE¼, lying north of the northerly right-of-way line of CARI 05498;

Sec. 24, that portion of the S½ lying north of the northerly right-of-way line of CARI 05498.

T. 6 S., R. 19 E.,

Secs. 3 to 6, inclusive, excluding the Palen McCoy Wilderness area CACA 35105;

Secs. 7, 8, and 9;

Secs. 10 to 13, inclusive, excluding the Palen McCoy Wilderness area CACA 35105;

Secs. 14, 15, 17, and 18;

Sec. 19, N½ lot 1 in the NW¼, N½ lot 2 in the NW¼, S½ lot 1 in the SW¼, S½ lot 2 in the SW¼, NW¼NE¼, and SE¼;

Secs. 20 to 24, inclusive;

Sec. 25, W½;

Secs. 26 and 27;

Secs. 28, 29, 34, and 35, lying north of the northerly right-of-way line of CALA 0107395.

T. 6 S., R. 20 E.,

Sec. 3, partially unsurveyed;

Secs. 5, 7, and 8, excluding the Palen McCoy Wilderness area CACA 35105;

Secs. 9, 10, and 15;

Sec. 16, NE¼NW¼ and S½NW¼;

Sec. 17, N½ and SE¼;

Sec. 18;

Sec. 19, lot 1 in the SW¼, lot 2 in the SW¼, and W½E½;

Sec. 20, W½, NE¼SE¼, and S½SE¼;

Sec. 21, NE¼, N½NW¼, SW¼NW¼, and SE¼;

Sec. 22, N½ and SE¼, partly unsurveyed;

Sec. 23, S½;

Sec. 24, S½;

Sec. 25, N½ and SE¼;

Sec. 26;

Sec. 27, N½NW¼, SW¼ NW¼, and S½;

Sec. 28, NE¼, NE¼SW¼, S½SW¼, and SE¼;

Secs. 29 and 30;

Sec. 31, N½ lot 1 in the NW¼, and N½N½NE¼;

Sec. 32, N½N½N½;

Sec. 33, N½N½N½;

Sec. 34, N½N½N½;

Sec. 35, NW¼NE¼, N½NW¼, and S½.

T. 7 S., R. 20 E.,

Sec. 1, lot 1 in the NE¼, lot 2 in the NE¼, lot 1 in the NW¼, lot 2 in the NW¼, and SW¼;

Sec. 2, lot 1 in the NE¼, lot 2 in the NE¼, lot 1 in the NW¼, lot 2 in the NW¼, and SE¼;

Sec. 11, NE¼NE¼, S½NE¼, and S½;

Secs. 12, 13, 24, and 25.

T. 4 S., R. 21 E.,

Sec. 2, SW¼, partly unsurveyed;

Secs. 3 and 4;

Sec. 5, E½ lot 1 in the NE¼, lots 5 to 12, inclusive, and SE¼;

Sec. 8, E½;

Secs. 9 to 15, inclusive, partly unsurveyed, and secs. 21 to 35, inclusive.

T. 5 S., R. 21 E.,

Secs. 1 to 14, inclusive;

Sec. 15, S½;

Secs. 17 to 23, inclusive, partly unsurveyed;

Sec. 24, S½;

Secs. 25 to 30, inclusive, and secs. 32 to 35, inclusive, partly unsurveyed.

T. 6 S., R. 21 E.,

Secs. 4, 5, 8, and 9;

Sec. 15, lots 1 and 2, SW¼, and W½SE¼;

Secs. 19 and 22;

Sec. 23, lots 2, 3, 5, and 6, and W½W½;

Sec. 26, lot 1;

Sec. 27;

Sec. 29, N½ and SW¼;

Sec. 30;

Sec. 31, lots 5, 6, 9 to 12, inclusive, 17, and 18, S½NE¼, and SE¼;

Sec. 32, NW¼;

Tracts 37 to 47, inclusive, 49 to 56, inclusive, 58, 59, 61, 62, 68, 69, 71, 73 to 78 A, inclusive, and 78 B to 80, inclusive.

T. 7 S., R. 21 E.,

Sec. 2, lots 3 to 6, inclusive, S½N½, E½SW¼, and NW¼SE¼;

Sec. 3;

Sec. 4, lots 3 and 4, S½NE¼, and S½;

Sec. 5, S½S½;

Sec. 6, SE¼;

Sec. 7;

Sec. 8, SW¼;

Sec. 9, NE¼ and S½;

Sec. 10;

Sec. 11, N½ and SW¼;

Sec. 12, NW¼ and N½SW¼;

Sec. 13;

Sec. 14, S½NE¼, W½, and SE¼;

Sec. 15, W½ and SE¼;

Sec. 17, NE¼, SE¼NW¼, and S½;

Sec. 18;

Secs. 19, 20, and 21, excluding the Mule Mountain Area of Critical Environmental Concern (ACEC);

Sec. 22, N½ and SW¼;

Secs. 23 and 24;

Sec. 25, S½NW¼ and N½SW¼;

Sec. 26, E½;

Secs. 27 to 34, inclusive, excluding the Mule Mountain ACEC;

Sec. 35.

T. 4 S., R 22 E.,

Sec. 7, unsurveyed;

Sec. 8, excluding the Big Maria Mountain Wilderness Area CACA 35061, unsurveyed;

Secs. 17 to 20, inclusive, and secs. 29 to 33, inclusive, unsurveyed.

T. 5 S., R. 22 E.,

Secs. 2 to 6, inclusive;

Sec. 7, lot 1 in the NW¼, lot 2 in the NW¼, and E½;

Secs. 8 to 14, inclusive;

Sec. 15, E½;

Sec. 17;

Sec. 18, lot 1 in the NW¼, lot 2 in the NW¼, lot 1 in the SW¼, lot 2 in the SW¼, and NE¼;

Secs. 19 and 20;

Sec. 21, S½;

Secs. 22, 23, and 24;

Sec. 25, W½NE¼, NW¼, N½SW¼, excluding Midland Road as designated on record of survey map on file in Book 11 pages 49 and 50 of record of survey, Records of Riverside County California;

Sec. 26, N½;

Sec. 27, N½ and SW¼;

Sec. 28, S½;

Sec. 29, N½ and SW¼;

Sec. 30;

Sec. 31, E½;

Sec. 32;

Sec. 33, SW¼.

T. 6 S., R. 22 E.,

Sec. 3, lot 1 in the NW¼ and lot 2 in the NW¼;

Secs. 4 to 7, inclusive;

Sec. 8, lots 1 to 6, inclusive, N½NE¼, and NW¼;

Sec. 9, NE¼, N½NW¼, SE¼NW¼, and E½SE¼;

Sec. 10, NW¼NW¼;

Sec. 17, lot 1;

Sec. 18, lots 1 to 6, inclusive.

T. 7 S., R. 22 E.,

Sec. 18, lot 4,

Tract 62;

Tract 63, lot 1;

Tracts 64, 113, and 115.

The areas described aggregate approximately 159,457 acres.

Imperial East SEZ

T. 16 S., R. 17 E.,

Secs. 21 to 28, inclusive, those portions lying south of the southerly right-of-way of Interstate 8 and east of Lake Cahuilla No. 5 ACEC;

Sec. 33, except that portion lying in Lake Cahuilla No. 5 ACEC;

Secs. 34 and 35.

T. 16 S., R. 18 E.,

Secs. 29 and 30, those portions lying south of the southerly right-of-way of Interstate 8;

Sec. 31, lot 3, NE¼, NE¼NW¼, SE¼SW¼, and S½SE¼;

Sec. 32, that portion of the N½N½ lying south of the southerly right-of-way of Interstate 8, S½NW¼SW¼, and S½S½;

Sec. 33, that portion of the N½ lying south of the southerly right-of-way of Interstate 8 and N½SE¼;

Sec. 34, those portions of the N½SW¼ and the NW¼SE¼ lying south of the southerly right-of-way of Interstate 8.

The areas described aggregate approximately 5,722 acres.

COLORADO—CO 073899

New Mexico Principal Meridian

Antonito Southeast SEZ

T. 32 N., R. 9 E.,

Sec. 3, lot 4, SW¼NW¼, W½SW¼, SE¼SW¼, SW¼SE¼, and E½SE¼;

Secs. 4, 9, 10, and 11;

Sec. 12, W½ and SE¼;

Secs. 13, 14, 15, and Secs 21 to 24, inclusive.

T. 32 N., R. 10 E.,

Sec. 7, lot 4, SE¼SW¼, and S½SE¼;

Sec. 8, S½S½;

Sec. 9, SW¼SW¼;

Secs. 17 to 20, inclusive;

Sec. 21, lots 1 to 4, inclusive, W½NE¼, and NW¼.

The areas described aggregate approximately 10,318 acres.

Fourmile East SEZ

T. 37 N., R. 12 E.,

Sec. 2, lots 3 and 4, and S½NW¼;

Sec. 3, lots 3 and 4, and S½N½.

T. 38 N., R. 12 E.,

Sec. 13, SW¼ and W½SE¼;

Sec. 23;

Sec. 24, W½ and W½SE¼;

Sec. 25, W½NE¼ and W½;

Sec. 26;

Sec. 35, NW¼.

The areas described aggregate approximately 2,882 acres.

Los Mogotes East SEZ

T. 34 N., R. 8 E.,

Secs. 1 and 12;

Sec. 13, NE¼NE¼, W½NE¼, W½, and NW¼SE¼;

Sec. 24, W½ and W½SE¼;

Sec. 25, W½ and W½E½.

The areas described aggregate approximately 2,640 acres.

DeTilla Gulch SEZ

T. 45 N., R. 9 E.,

Sec. 29, that portion of the S½ lying one-quarter mile or more southeasterly and parallel to the centerline of Highway 285;

Sec. 30, that portion of the SE¼SE¼ lying one-quarter mile or more southeasterly and parallel to the centerline of Highway 285;

Sec. 31, those portions of the NE¼ and the SE¼NW¼ lying one-quarter mile or more southeasterly and parallel to the centerline of Highway 285; and those portions of the NE¼SW¼ and the N½SE¼ lying one-quarter mile or more north of and parallel to the centerline of the Old Spanish National Historic Trail as mapped by the National Park Service;

Sec. 32, N½, and that portion of the N½SW¼, lying one-quarter mile or more north of and parallel to the centerline of the Old Spanish National Historic Trail as mapped by the National Park Service;

Sec. 33, N½NE¼ and NW¼.

The areas described aggregate approximately 1,064 acres.

NEVADA—NV 087208

Mount Diablo Meridian

Amargosa Valley SEZ

T. 13 S., R. 47 E.,

Sec. 35, NE¼NE¼, S½NE¼, W½NW¼, SE¼NW¼, and S½;

Sec. 36, that portion lying southerly and westerly of the centerline of U.S. Highway No. 95.

T. 14 S., R. 47 E.,

Sec. 8, E½, unsurveyed;

Sec. 9, unsurveyed;

Secs. 10, 11, 13, and 14, those portions lying southerly and westerly of the centerline of U.S. Highway No. 95, unsurveyed;

Secs. 15 and 16, unsurveyed;

Sec. 21, E½, unsurveyed;

Secs. 22 and 23, unsurveyed;

Sec. 24, that portion lying southerly and westerly of the centerline of U.S. Highway No. 95, unsurveyed;

Sec. 25, W½NE¼, and W½, unsurveyed;

Secs. 26 and 27, unsurveyed;

Sec. 34, E½, unsurveyed;

Sec. 35, unsurveyed;

Sec. 36, W½, unsurveyed.

T. 15 S., R. 47 E.,

Sec. 1, W½W½, unsurveyed;

Sec. 2, unsurveyed;

Sec. 12, NW¼NW¼, unsurveyed.

The areas described aggregate approximately 9,690 acres.

Dry Lake SEZ

T. 17 S., R. 63 E.,

Sec. 33, lots 9, 10, 13, and 14, and NE¼SE¼;

Sec. 34, lots 1 to 4, inclusive, NE¼, S½NW¼, and N½S½;

Secs. 35 and 36.

T. 18 S., R. 63 E.,

Secs. 1 and 2;

Sec. 3, lots 1, 2, 3, 5, 7 to 10, inclusive, 13, and 14, S½NE¼, and NE¼SE¼;

Sec. 4, lot 5;

Sec. 10, lot 1;

Sec. 11, lots 1, 3, 4, 5, and 9, NE¼, NE¼NW¼, N½SE¼, and SE¼SE¼;

Sec. 12; that portion lying northerly and westerly of the centerline of the southbound lane of I-15;

Sec. 13, those portions lying northerly and westerly of the centerline of the southbound lane of I-15 and northerly and easterly of the centerline of U.S. Highway No. 93;

Sec. 14, lot 1.

T. 17 S., R. 64 E.,

Sec. 31, lots 5 to 8, inclusive, SW¼NE¼, E½W½, and that portion of the SE¼ lying northerly and westerly of the centerline of the southbound lane of I-15;

Sec. 32, that portion of the SW¼ lying northerly and westerly of the centerline of the southbound lane of I-15.

T. 18 S., R. 64 E.,

Secs. 6 and 7, those portions lying northerly and westerly of the centerline of the southbound lane of I-15, respectively.

The areas described aggregate approximately 6,160 acres.

Dry Lake Valley North SEZ

T. 1 N., R. 64 E.,

Sec. 35, S½;

Sec. 36, S½.

T. 1 S., R. 64 E.,

Secs. 1, 12, and 13;

Sec. 21, E½ and E½W½;

Sec. 22 to 27, inclusive;

Sec. 28, E½;

Sec. 33, E½E½ and NW¼NE¼;

Secs. 34, 35, and 36.

T. 2 S., R. 64 E.,

Secs. 1, 2, and 3;

Sec. 4, lot 1 and SE¼NE¼;

Sec. 10, N½, N½SW¼, SE¼SW¼, and SE¼;

Secs. 11 to 14, inclusive;

Sec. 15, NE¼, E½NW¼, NE¼SW¼, N½SE¼, and SE¼SE¼;

Sec. 23, NE¼, N½NW¼, SE¼NW¼, N½SE¼, and SE¼SE¼;

Sec. 24;

Sec. 25, N½NE¼.

T. 1 N., R. 65 E.,

Sec. 31, S½;

Sec. 32, W½SW¼.

T. 1 S., R. 65 E.,

Sec. 6, lots 3, 4, and 7 to 13, inclusive;

Secs. 7, 8, 17 to 20, inclusive, 29, 30, and 31;

Sec. 32, N½, SW¼, and W½SE¼.

T. 2 S., R. 65 E.,

Sec. 5, lots 2, 3, and 4, SW¼NE¼, S½NW¼, SW¼, and W½SE¼;

Secs. 6 and 7;

Sec. 8, W½E½ and W½;

Sec. 17, W½NE¼, SE¼NE¼, W½, and SE¼;

Secs. 18 and 19;

Sec. 20, W½NE¼ and W½;

Sec. 29, NW¼, N½SW¼, and SE¼SW¼;

Sec. 30, lot 1, NE¼, E½NW¼, and NE¼SE¼.

The areas described aggregate approximately 28,726 acres.

Gold Point SEZ

T. 6 S., R. 41 E.,

Sec. 13, S½;

Sec. 14, E½SE¼;

Sec. 23, E½E½ and NW¼SE¼;

Sec. 24;

Sec. 25, N½, NE¼SW¼, and N½SE¼;

Sec. 26, NE¼NE¼.

T. 6 S., R. 41½ E.,

Sec. 13, N½SW¼ and SW¼SW¼, unsurveyed;

Sec. 14, S½, unsurveyed;

Sec. 15, S½, unsurveyed;

Sec. 16, S½, unsurveyed;

Secs. 21 and 22, unsurveyed;

Sec. 23, N½NE¼, SW¼NE¼, W½, and NW¼SE¼, unsurveyed;

Sec. 26, NW¼NW¼, unsurveyed;

Sec. 27 N½, SW¼, N½SE¼, and SW¼SE¼, unsurveyed;

Sec. 28, unsurveyed.

The areas described aggregate approximately 4,810 acres.

Millers SEZ

T. 3 N., R. 39 E.,

Sec. 1;

Sec. 2, lot 1, S½NE¼, NE¼SW¼, S½SW¼, and SE¼;

Sec. 11, N½N½ and SW¼NW¼;

Sec. 12, N½NW¼.

T. 4 N., R. 39 E.,

Sec. 36, NE¼NE¼, S½NE¼, NE¼SW¼, S½SW¼, and SE¼.

T. 3 N., R. 40 E.,

Sec. 4, lots 3 and 4, S½NW¼, and NW¼SW¼;

Sec. 5, lots 1 to 4, inclusive, S½N½, and N½S½;

Sec. 6.

T. 4 N., R. 40 E.,

Sec. 10, S½S½;

Sec. 11, S½;

Sec. 12, SW¼NE¼, S½NW¼, SW¼, and W½SE¼;

Sec. 13, W½E½ and W½;

Secs. 14, 15, and 16;

Sec. 17, S½N½ and S½;

Sec. 18, SE¼;

Sec. 19, E½, E½NW¼, and NE¼SW¼;

Secs. 20 to 23, inclusive;

Sec. 24, W½E½ and W½;

Sec. 25, NW¼ and W½SW¼;

Secs. 26 to 29, inclusive;

Sec. 30, lot 4, E½, and E½SW¼;

Secs. 31 and 32;

Sec. 33, N½, SW¼, and N½SE¼;

Sec. 34;

Sec. 35, N½, SW¼, and W½SE¼.

The areas described aggregate approximately 16,560 acres.

NEW MEXICO—NM 114441

New Mexico Principal Meridian

Afton SEZ

T. 25 S., R. 1 E.,

Secs. 7, 8, 14, 15, 17, and 18;

Sec. 19, lots 1 to 4, inclusive, NE¼NE¼, W½E½, E½W½, and SE¼SE¼;

Sec. 20, NE¼, N½NW¼, SE¼NW¼, NE¼SW¼, S½SW¼, N½SE¼, SW¼SE¼, and W½SE¼SE¼;

Sec. 21, N½, N½S½, SE¼SW¼, and S½SE¼;

Secs. 22 to 30, inclusive, and secs. 33, 34, and 35.

T. 24 S., R. 1 W.,

Sec. 19 and secs. 28 to 35, inclusive.

T. 25 S., R. 1 W.,

Secs. 1, 3 to 6 inclusive, and 8 to 15, inclusive.

T. 24 S., R. 2 W.,

Secs. 23 to 26, inclusive, and sec. 35.

T. 25 S., R. 2 W.,

Sec. 1.

The areas described aggregate approximately 30,706 acres.

UTAH—087557

Salt Lake Meridian

Escalante Valley SEZ

T. 33 S., R. 14 W.,

Sec. 8, NE¼, E½NW¼, SW¼NW¼, and S½;

Sec. 9, E½NE¼, S½SW¼, and SE¼;

Sec. 10;

Sec. 11, W½ and W½SE¼, those portions lying west of Railroad Right-of-Way Grant UTSL 0032533;

Sec. 14, E½, that portion lying west of Railroad Right-of-Way Grant UTSL 0032533;

Secs. 15, 17, 19, and 30;

Sec. 31, excluding the dry intermittent lake bed in lots 3 and 4.

T. 34 S., R. 14 W.,

Sec. 6, lot 4.

T. 33 S., R. 15 W.,

Sec. 24, NW¼;

Sec. 25.

The areas described aggregate approximately 6,837 acres.

Milford Flats South SEZ

T. 30 S., R. 10 W.,

Sec. 18, lots 1 and 2, and E½NW¼.

T. 30 S., R. 11 W.,

Sec. 7, lots 3 and 4, and E½SE¼;

Sec. 8, SW¼ and W½SE¼;

Sec. 10, NE¼, E½NW¼, and S½;

Sec. 12, W½;

Sec. 13, N½, N½SW¼, and NW¼SE¼;

Secs. 14 and 15, excluding the Minersville Canal;

Secs. 17 and 18;

Sec. 19, lots 1 and 2, NE¼, and E½NW¼;

Sec. 20, excluding the Minersville Canal;

Sec. 21, N½, N½S½, and SW¼SW¼, excluding the Minersville Canal;

Sec. 22, N½NE¼ and NW¼, excluding the Minersville Canal;

Sec. 29, N½NW¼, excluding the Minersville Canal;

Sec. 30, N½NE¼.

The areas described aggregate approximately 6,320 acres.

Wah Wah Valley SEZ

T. 27 S., R. 14 W.,

Sec. 8, E½ and SE¼SW¼;

Sec. 9, N½, N½SW¼, SE¼SW¼, and SE¼;

Sec. 10;

Sec. 11, lots 1 and 2, SW¼NE¼, S½NW¼, SW¼, and W½SE¼, excluding the WahWah Wash;

Sec. 13, lot 1;

Sec. 14, excluding the WahWah Wash;

Sec. 15;

Sec. 17, NW¼NE¼;

Sec. 21, lots 1 and 6, and E½NE¼;

Sec. 22;

Sec. 23, excluding the WahWah Wash;

Sec. 26, N½ and N½S½, excluding the WahWah Wash;

Sec. 27, N½ and N½S½;

Sec. 28, NE¼ and N½SE¼.

The areas described aggregate approximately 6,058 acres.

The total areas described aggregate approximately 303,900 acres of public lands in the following counties: La Paz and Maricopa, Arizona; Imperial and Riverside, California; Conejos, Saguache, and Alamosa, Colorado; Nye, Lincoln, Clark, and Esmeralda, Nevada; Dona Ana, New Mexico; Iron and Beaver, Utah.

The Assistant Secretary of the Interior for Policy, Management and Budget has approved the BLM's proposed amendment. Therefore, this document constitutes a withdrawal proposal of the Secretary of the Interior (43 CFR 2310.1-3(e)).

The purpose of the proposed amendment is to protect and preserve 17 proposed SEZs for a 20-year period for future solar energy development.

The use of a right-of-way, interagency or cooperative agreement, or surface management by the BLM under 43 CFR 3715 or 43 CFR 3809 regulations will not adequately constrain nondiscretionary uses, which could result in loss of adequate protection and preservation of the subject lands for future solar energy development.

There are no suitable alternative sites for the withdrawal.

No water rights would be needed to fulfill the purpose of the requested withdrawal.

Records relating to the amended application may be examined by contacting Shannon C. Stewart at the above address or by calling 202-912-7219.

The amended application for the proposed withdrawal will be processed in accordance with the regulations set forth in 43 CFR part 2300.

For a period of 90 days from the date of publication of this notice, all persons who wish to submit comments, suggestions, or objections in connection with the amended proposed withdrawal may present their views in writing to the BLM Director at the address noted above.

All comments received will be considered before any final action is taken on the proposed withdrawal.

The lands described in this notice are segregated until June 29, 2013, pursuant to 43 CFR 2091.3-1(e) and 43 CFR 2804.25(e) (76 FR 38416 (2011)) and the Federal Register notice published on June 30, 2011 (76 FR 38416). The remaining lands described in the April 21, 2011, Notice of Amended Proposed Withdrawal, as published in the Federal Register (76 FR 22414), are no longer applicable to the purpose for which the withdrawal was proposed and are hereby cancelled from the application. The lands cancelled from the application include about 373,852 acres in 7 areas and also near the remaining SEZs. Pursuant to 43 CFR 2091.3-1(e) and 43 CFR 2804.25(e), the segregative effect established by the Federal Register notice published on June 30, 2011 (76 FR 38416) is hereby terminated as to those remaining lands.

Comments including names and street addresses of respondents will be available for public review at the BLM Washington Office at the address noted above, during regular business hours 8 a.m. to 4:30 p.m., Monday through Friday, except holidays. Before including your address, phone number, email address, or other personal identifying information in your comment, you should be aware that your entire comment—including your personal identifying information—may be made publicly available at any time. While you can ask us in your comment to withhold your personal identifying information from public review, we cannot guarantee that we will be able to do so.

Mike Pool,
Acting Director, Bureau of Land Management.

[FR Doc. 2012-30295 Filed 12-14-12; 8:45 am]

BILLING CODE 4310-84-P